DEPARTMENT OF COMMERCE

National Oceanic and Atmospheric Administration

Proposed Information Collection; Comment Request; Amendment 80 Economic Data Report for the Catcher/Processor Non-AFA Trawl Sector

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 10, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, at (907) 586-7008 or patsy.bearden@noaa.gov.

SUPPLEMENTARY INFORMATION:

I. Abstract

Amendment 80 to the Fishery Management Plan for Groundfish of the Bering Sea and Aleutian Islands Management Area primarily allocates several Bering Sea and Aleutian Islands Management Area non-pollock trawl groundfish fisheries among fishing sectors, and facilitates the formation of harvesting cooperatives in the catcher/processor sector of the non-American Fisheries Act (non-AFA) Trawl Catcher/processor Cooperative Program (Program). The Program established a limited access privilege program for the non-AFA trawl catcher/processor sector.

The Amendment 80 economic data report (EDR) collects cost, revenue, ownership, and employment data on an annual basis and provides information unavailable through other means to review the Program. The purpose of the EDR is to understand the economic effects of the Amendment 80 program on vessels or entities regulated by the Program, and to inform future management actions. Data collected through the EDR is mandatory for all Amendment 80 quota share (QS) holders.

II. Method of Collection

EDR forms are available in fillable PDF format through the Internet on the NMFS Alaska Region Web site at http://alaskafisheries.noaa.gov. Pacific States Marine Fisheries Commission (PSMFC) was designated by NMFS to be the Data Collection Agent for the Amendment 80 EDR Program. PSMFC mails EDR announcements and filing instructions to Amendment 80 QS permit holders by April 1 of each year. Methods of submittal include mail and facsimile transmission of paper forms.

III. Data

OMB Control Number: 0648-0564.

Form Number: None.

Type of Review: Regular submission.

Affected Public: Business or other for-profit organizations; individuals or households.

Estimated Number of Respondents: 28.

Estimated Time Per Response: Amendment 80 EDR, 40 hours; Verification of Data, 3 hours.

Estimated Total Annual Burden Hours: 1,204.

Estimated Total Annual Cost to Public: $42 in recordkeeping/reporting costs.

IV. Request for Comments

Comments are invited on: (a) Whether the proposed collection of information is necessary for the proper performance of the functions of the agency, including whether the information shall have practical utility; (b) the accuracy of the agency's estimate of the burden (including hours and cost) of the proposed collection of information;

(c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 4, 2010.
Gwellnar Banks,
Management Analyst, Office of the Chief Information Officer.

[FR Doc. 2010-4947 Filed 3-8-10; 8:45 am]

BILLING CODE 3510-22-P